DEPARTMENT OF TRANSPORTATION

Federal Aviation Administration

14 CFR Part 39

[Docket No. FAA-2015-8137; Directorate Identifier 2014-NM-104-AD; Amendment 39-18561; AD 2016-12-12]

RIN 2120-AA64

Airworthiness Directives; Fokker Services B.V. Airplanes

AGENCY: Federal Aviation Administration (FAA), Department of Transportation (DOT).

ACTION: Final rule.

SUMMARY: We are superseding Airworthiness Directive (AD) 2008-05-18 R1 for certain Fokker Services B.V. Model F.27 Mark 050, 200, 300, 400, 500, 600, and 700 airplanes. AD 2008-05-18 R1 required revising the Airworthiness Limitations Section (ALS) of the Instructions for Continued Airworthiness to incorporate new limitations for fuel tank systems. This new AD requires a new maintenance or inspection program revision to incorporate the revised Airworthiness Limitation Items (ALIs) and critical design configuration control limitations (CDCCLs). This new AD also adds certain airplanes to the applicability. This AD was prompted by the issuance of revised service information to update the Fuel ALIs and CDCCLs that address fuel tank system ignition sources. We are issuing this AD to prevent the potential of ignition sources inside fuel tanks, which, in combination with flammable fuel vapors, could result in fuel tank explosions and consequent loss of the airplane.

DATES: This AD becomes effective July 22, 2016.

The Director of the Federal Register approved the incorporation by reference of a certain publication listed in this AD as of July 22, 2016.

The Director of the Federal Register approved the incorporation by reference of a certain publication listed in this AD as of November 23, 2009 (74 FR 57402, November 6, 2009).

ADDRESSES: For service information identified in this final rule, contact Fokker Services B.V., Technical Services Dept., P.O. Box 1357, 2130 EL Hoofddorp, the Netherlands; telephone +31 (0)88-6280-350; fax +31 (0)88-6280-111; email technicalservices@fokker.com; Internet http://www.myfokkerfleet.com. You may view this referenced service information at the FAA, Transport Airplane Directorate, 1601 Lind Avenue SW., Renton, WA. For information on the availability of this material at the FAA, call 425-227-1221. It is also available on the Internet at http://www.regulations.gov by searching for and locating Docket Number FAA-2015-8137.

Examining the AD Docket

You may examine the AD docket on the Internet at http://www.regulations.gov by searching for and locating Docket No. FAA-2015-8137; or in person at the Docket Management Facility between 9 a.m. and 5 p.m., Monday through Friday, except Federal holidays. The AD docket contains this AD, the regulatory evaluation, any comments received, and other information. The address for the Docket Office (telephone 800-647-5527) is Docket Management Facility, U.S. Department of Transportation, Docket Operations, M-30, West Building Ground Floor, Room W12-140, 1200 New Jersey Avenue SE., Washington, DC 20590.

FOR FURTHER INFORMATION CONTACT: Tom Rodriguez, Aerospace Engineer, International Branch, ANM-116, Transport Airplane Directorate, FAA, 1601 Lind Avenue SW., Renton, WA 98057-3356; telephone 425-227-1137; fax 425-227-1149.

SUPPLEMENTARY INFORMATION:

Discussion

We issued a notice of proposed rulemaking (NPRM) to amend 14 CFR part 39 to supersede AD 2008-05-18 R1, Amendment 39-16083 (74 FR 57402, November 6, 2009) (“AD 2008-05-18 R1”). AD 2008-05-18 R1 applied to certain Model F.27 Mark 050, 200, 300, 400, 500, 600, and 700 airplanes. The NPRM published in the Federal Register on January 4, 2016 (81 FR 38) (“the NPRM”). The NPRM was prompted by the issuance of revised service information to update the Fuel ALIs and CDCCLs that address fuel tank system ignition sources. The NPRM proposed to retain the requirements of AD 2008-05-18 R1, and require a new maintenance or inspection program revision to incorporate the revised ALIs and CDCCLs. The NPRM also proposed to add certain airplanes to the applicability. We are issuing this AD to prevent the potential of ignition sources inside fuel tanks, which, in combination with flammable fuel vapors, could result in fuel tank explosions and consequent loss of the airplane.

The European Aviation Safety Agency (EASA), which is the Technical Agent for the Member States of the European Union, has issued EASA Airworthiness Directive 2015-0029, dated February 24, 2015 (referred to after this as the Mandatory Continuing Airworthiness Information, or “the MCAI”), to correct an unsafe condition on all Model F.27 Mark 050, 200, 300, 400, 500, 600, and 700 airplanes. The MCAI states:

* * * [T]he FAA published Special Federal Aviation Regulation (SFAR) 88, and the Joint Aviation Authorities (JAA) published Interim Policy INT/POL/25/12. The review conducted by Fokker Services on the Fokker F27 design in response to these regulations identified a number of Fuel Airworthiness Limitation Items (ALI) and Critical Design Configuration Control Limitations (CDCCL) items to prevent the development of unsafe conditions within the fuel system.

To introduce these Fuel ALI and CDCCL items, Fokker Services published Service Bulletin (SB) F27/28-070. Consequently, EASA issued AD 2006-0207, requiring the implementation of these Fuel ALI and CDCCL items. That [EASA] AD was later revised to make reference to SBF27-28-070R1 and to specify that the use of later SB revisions was acceptable.

In 2014, Fokker Services issued Revision 2 of SBF27-28-070 to update the Fuel ALI and CDCCL items and to consolidate Fuel ALI and CDCCL items contained in a number of other SBs. Consequently, EASA issued AD 2014-0105, superseding AD 2006-0207R1 and requiring the implementation of the updated Fuel ALI and CDCCL items.

Since that [EASA] AD was issued, Fokker Services issued Revision 3 of SBF27-28-070, primarily to introduce 2 additional CDCCL items.

For the reason described above, this [EASA] AD retains the requirements of EASA AD 2014-0105, which is superseded, and requires implementation of the updated Fuel ALI and CDCCL items.

More information on this subject can be found in Fokker Services All Operators Message AOF27.043#05.

The unsafe condition is the potential of ignition sources inside fuel tanks. Such ignition sources, in combination with flammable fuel vapors, could result in fuel tank explosions and consequent loss of the airplane. You may examine the MCAI in the AD docket on the Internet at http://www.regulations.gov by searching for and locating it in Docket No. FAA-2015-8137.

Comments

We gave the public the opportunity to participate in developing this AD. We received no comments on the NPRM or on the determination of the cost to the public.

Conclusion

We reviewed the available data and determined that air safety and the public interest require adopting this AD as proposed, except for minor editorial changes. We have determined that these minor changes:

• Are consistent with the intent that was proposed in the NPRM for correcting the unsafe condition; and

• Do not add any additional burden upon the public than was already proposed in the NPRM.

Related Service Information Under 1 CFR Part 51

Fokker Services B.V. has issued Service Bulletin SBF27-28-070, Revision 3, dated December 11, 2014. The service information describes tasks for revising the maintenance or inspection program to update the fuel ALIs and CDCCLs that address fuel tank system ignition sources. This service information is reasonably available because the interested parties have access to it through their normal course of business or by the means identified in the ADDRESSES section.

Costs of Compliance

We estimate that this AD affects 16 airplanes of U.S. registry.

The actions that are required by AD 2008-05-18 R1 take about 1 work-hour per product, at an average labor rate of $85 per work-hour. Required parts cost about $0 per product. Based on these figures, the estimated cost of the actions required by AD 2008-05-18 R1 is $85 per product.

We also estimate that it takes about 1 work-hour per product to comply with the new basic requirements of this AD. The average labor rate is $85 per work-hour. Required parts will cost about $0 per product. Based on these figures, we estimate the cost of this AD on U.S. operators to be $1,360, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2008-05-18 R1, Amendment 39-16083 (74 FR 57402, November 6, 2009), and adding the following new AD:

2016-12-12 Fokker Services B.V.: Amendment 39-18561. Docket No. FAA-2015-8137; Directorate Identifier 2014-NM-104-AD.

(a) Effective Date

This AD becomes effective July 22, 2016.

(b) Affected ADs

This AD replaces AD 2008-05-18 R1, Amendment 39-16083 (74 FR 57402, November 6, 2009) (“AD 2008-05-18 R1”).

(c) Applicability

This AD applies to Fokker Services B.V. Model F.27 Mark 050, 200, 300, 400, 500, 600, and 700 airplanes; certificated in any category; all serial numbers.

(d) Subject

Air Transport Association (ATA) of America Code 28, Fuel.

(e) Reason

This AD was prompted by the issuance of revised service information to update the Fuel Airworthiness Limitation Items (ALIs) and critical design configuration control limitations (CDCCLs) that address fuel tank system ignition sources. We are issuing this AD to prevent the potential of ignition sources inside fuel tanks, which, in combination with flammable fuel vapors, could result in fuel tank explosions and consequent loss of the airplane.

(f) Compliance

Comply with this AD within the compliance times specified, unless already done.

(g) Retained Revision of the Airworthiness Limitations Section (ALS) of the Instructions for Continued Airworthiness To Incorporate Limits (Inspections, Thresholds, and Intervals), With Revised Table Reference

This paragraph restates the actions required by paragraph (f)(1) of AD 2008-05-18 R1, with revised table reference. For Model F.27 Mark 050, 200, 300, 400, 500, 600, and 700 airplanes, serial numbers 10102 through 10692 inclusive: Within 3 months after April 16, 2008 (the effective date of AD 2008-05-18, Amendment 39-15412 (73 FR 13071, March 12, 2008)), revise the ALS of the Instructions for Continued Airworthiness to incorporate the limits (inspections, thresholds, and intervals) specified in Fokker 50/60 Fuel Airworthiness Limitation Items (ALI) and Critical Design Configuration Control Limitations (CDCCL) Report SE-671, Issue 2, dated December 1, 2006; or Fokker Service Bulletin SBF27-28-070, Revision 1, dated January 8, 2008; as applicable. For all tasks identified in Fokker 50/60 Fuel Airworthiness Limitation Items (ALI) and Critical Design Configuration Control Limitations (CDCCL) Report SE-671, Issue 2, dated December 1, 2006; or Fokker Service Bulletin SBF27-28-070, Revision 1, dated January 8, 2008; the initial compliance times are as specified in Table 1 to paragraph (g) of this AD, as applicable. The repetitive inspections must be accomplished thereafter at the intervals specified in Fokker 50/60 Fuel Airworthiness Limitation Items (ALI) and Critical Design Configuration Control Limitations (CDCCL) Report SE-671, Issue 2, dated December 1, 2006; or Fokker Service Bulletin SBF27-28-070, Revision 1, dated January 8, 2008; as applicable, except as provided by paragraphs (i) and (n)(1) of this AD.

Table 1 to Paragraph (g) of This AD—Initial Compliance Times for ALS Revision
For— | The later of—
Model F.27 Mark 050 airplanes: Task 280000-01 | 102 months after April 16, 2008 (the effective date of AD 2008-05-18, Amendment 39-15412 (73 FR 13071, March 12, 2008)); or 102 months after the date of issuance of the original Dutch standard airworthiness certificate or the date of issuance of the original Dutch export certificate of airworthiness.
Model F.27 Mark 050 airplanes: Task 280000-02 | 30 months after April 16, 2008 (the effective date of AD 2008-05-18, Amendment 39-15412 (73 FR 13071, March 12, 2008)); or 30 months after the date of issuance of the original Dutch standard airworthiness certificate or the date of issuance of the original Dutch export certificate of airworthiness.
Model F.27 Mark 200, 300, 400, 500, 600, and 700 airplanes: Task 280000-01 | 78 months after April 16, 2008 (the effective date of AD 2008-05-18, Amendment 39-15412 (73 FR 13071, March 12, 2008)); or 78 months after the date of issuance of the original Dutch standard airworthiness certificate or the date of issuance of the original Dutch export certificate of airworthiness.
Model F.27 Mark 200, 300, 400, 500, 600, and 700 airplanes: Task 280000-02 | 18 months after April 16, 2008 (the effective date of AD 2008-05-18, Amendment 39-15412 (73 FR 13071, March 12, 2008)); or 18 months after the date of issuance of the original Dutch standard airworthiness certificate or the date of issuance of the original Dutch export certificate of airworthiness.

(h) Retained Revision of the ALS of the Instructions for Continued Airworthiness To Incorporate CDCCLs, With No Changes

This paragraph restates the actions required by paragraph (f)(2) of AD 2008-05-18 R1, with no changes. For Model F.27 Mark 050, 200, 300, 400, 500, 600, and 700 airplanes, serial numbers 10102 through 10692 inclusive: Within 3 months after April 16, 2008 (the effective date of AD 2008-05-18, Amendment 39-15412 (73 FR 13071, March 12, 2008)), revise the ALS of the Instructions for Continued Airworthiness to incorporate the CDCCLs as defined in Fokker 50/60 Fuel Airworthiness Limitations Items (ALI) and Critical Design Configuration Control Limitations (CDCCL) Report SE-671, Issue 2, dated December 1, 2006; or Fokker Service Bulletin SBF27-28-070, Revision 1, dated January 8, 2008; as applicable.

(i) Retained Exceptional Short-Term Extensions Provision, With No Changes

This paragraph restates the exceptional short-term extensions provision specified in paragraph (f)(3) of AD 2008-05-18 R1, with no changes. Where Fokker 50/60 Fuel Airworthiness Limitation Items (ALI) and Critical Design Configuration Control Limitations (CDCCL) Report SE-671, Issue 2, dated December 1, 2006; or Fokker Service Bulletin SBF27-28-070, Revision 1, dated January 8, 2008; as applicable; allow for exceptional short-term extensions, an exception is acceptable to the FAA if it is approved by the appropriate principal inspector in the FAA Flight Standards Certificate Holding District Office.

(j) Retained No Alternative Actions, Intervals, and/or CDCCLs, With New Exception

This paragraph restates the requirement specified in paragraph (f)(4) of AD 2008-05-18 R1, with a new exception. Except as required by paragraph (l) of this AD, after accomplishing the actions specified in paragraphs (g) and (h) of this AD, no alternative inspections, inspection intervals, or CDCCLs may be used, unless the inspections, inspection intervals, or CDCCLs are approved as an alternative method of compliance (AMOC) in accordance with the procedures specified in paragraph (n)(1) of this AD.

(k) Retained Credit for Previous Actions, With No Changes

This paragraph restates the credit provided in paragraph (f)(5) of AD 2008-05-18 R1, with no changes. Actions done before April 16, 2008 (the effective date of AD 2008-05-18, Amendment 39-15412 (73 FR 13071, March 12, 2008)), in accordance with Fokker 50/60 Fuel Airworthiness Limitation Items (ALI) and Critical Design Configuration Control Limitations (CDCCL) Report SE-671, Issue 1, dated January 31, 2006; and Fokker Service Bulletin SBF27/28-070, dated June 30, 2006; are acceptable for compliance with the corresponding requirements of this AD.

(l) New Requirements of This AD: Revise the Maintenance or Inspection Program

For Model F.27 Mark 200, 300, 400, 500, 600, and 700 airplanes: Within 3 months after the effective date of this AD, revise the maintenance or inspection program, as applicable, by incorporating the Fuel ALIs and CDCCLs identified in the Accomplishment Instructions of Fokker Service Bulletin SBF27-28-070, Revision 3, dated December 11, 2014. Accomplishing the actions required by this paragraph ends the requirements specified in paragraphs (g) and (h) of this AD for that airplane. The initial compliance time for the Fuel ALIs identified in Fokker Service Bulletin SBF27-28-070, Revision 3, dated December 11, 2014, is at the initial compliance time specified in Fokker Service Bulletin SBF27-28-070, Revision 3, dated December 11, 2014, or within 3 months after the effective date of this AD, whichever occurs later.

(m) No Alternative Actions, Intervals, or Critical Design Configuration Control Limitations (CDCCLs)

After accomplishing the revision required by paragraph (l) of this AD, no alternative actions (e.g., inspections), intervals, or CDCCLs may be used; unless the actions, intervals, or CDCCLs are approved as an AMOC in accordance with the procedures specified in paragraph (n)(1) of this AD.

(n) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA, 1601 Lind Avenue SW., Renton, WA 98057-3356; telephone 425-227-1137; fax 425-227-1149. Information may be emailed to: 9-ANM-116-AMOC-REQUESTS@faa.gov. Before using any approved AMOC, notify your appropriate principal inspector, or lacking a principal inspector, the manager of the local flight standards district office/certificate holding district office.

(2) Contacting the Manufacturer: As of the effective date of this AD, for any requirement in this AD to obtain corrective actions from a manufacturer, the action must be accomplished using a method approved by the Manager, International Branch, ANM-116, Transport Airplane Directorate, FAA; or the European Aviation Safety Agency (EASA); or Fokker B.V. Service's EASA Design Organization Approval (DOA). If approved by the DOA, the approval must include the DOA-authorized signature.

(o) Related Information

(1) Refer to Mandatory Continuing Airworthiness Information (MCAI) EASA Airworthiness Directive 2015-0029, dated February 24, 2015, for related information. This MCAI may be found in the AD docket on the Internet at http://www.regulations.gov by searching for and locating Docket No. FAA-2015-8137.

(2) Service information identified in this AD that is not incorporated by reference is available at the addresses specified in paragraphs (p)(5) and (p)(6) of this AD.

(p) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on July 22, 2016.

(i) Fokker Service Bulletin SBF27-28-070, Revision 3, dated December 11, 2014.

(ii) Reserved.

(4) The following service information was approved for IBR on September 16, 2011 (76 FR 50111, August 12, 2011).

(i) Fokker Service Bulletin SBF27-28-070, Revision 1, dated January 8, 2008.

(ii) Reserved.

(5) For service information identified in this AD, contact Fokker Services B.V., Technical Services Dept., P.O. Box 1357, 2130 EL Hoofddorp, the Netherlands; telephone +31 (0)88-6280-350; fax +31 (0)88-6280-111; email technicalservices@fokker.com; Internet http://www.myfokkerfleet.com.

(6) You may view this service information at the FAA, Transport Airplane Directorate, 1601 Lind Avenue SW., Renton, WA. For information on the availability of this material at the FAA, call 425-227-1221.

(7) You may view this service information that is incorporated by reference at the National Archives and Records Administration (NARA). For information on the availability of this material at NARA, call 202-741-6030, or go to: http://www.archives.gov/federal-register/cfr/ibr-locations.html.

Issued in Renton, Washington, on May 31, 2016.
Michael Kaszycki,
Acting Manager, Transport Airplane Directorate, Aircraft Certification Service.

[FR Doc. 2016-14130 Filed 6-16-16; 8:45 am]

BILLING CODE 4910-13-P